FEDERAL MARITIME COMMISSION

Notice of Agreements Filed

The Commission hereby gives notice of the filing of the following agreements under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 011275-037.

Title: Australia and New Zealand-United States Discussion Agreement.

Parties: CMA CGM, S.A. and ANL Singapore Pte Ltd. (acting as a single party); Hamburg-Süd KG; Hapag-Lloyd AG; and MSC Mediterranean Shipping Company S.A.

Filing Party: Wayne R. Rohde, Esq.; Cozen O'Connor LLP; 1200 Nineteenth St. NW.; Washington, DC 20036.

Synopsis: The Amendment deletes Maersk Line A/S as a party to the Agreement.

Agreement No.: 201157-005.

Title: USMX-ILA Master Contract between United States Maritime Alliance, Ltd. and International Longshoremen's Association.

Parties: United States Maritime Alliance, Ltd., on behalf of Management, and the International Longshoremen's Association, AFL-CIO.

Filing Parties: William M. Spelman, Esq.; The Lambos Firm; 303 South Broadway, Suite 410; Tarrytown, NY 10591; and Andre Mazzola, Esq.; Marrinan & Mazzola Mardon, P.C.; 26 Broadway, 17th Floor; New York, NY 10004.

Synopsis: The amendment extends the agreement to reduce the overall assessment from $5.10 per ton to 55 cents (55¢) per ton on cargo destined to or from the Caribbean Basin handled by ILA-represented employees in the ports of Jacksonville, Southeast Florida, Tampa, Mobile, New Orleans and ports in the West Gulf to September 30, 2018.

By Order of the Federal Maritime Commission.
Dated: March 11, 2016.
Rachel E. Dickon,
Assistant Secretary.

[FR Doc. 2016-05951 Filed 3-15-16; 8:45 am]

BILLING CODE 6731-AA-P